DEPARTMENT OF TRANSPORTATION

Federal Aviation Administration

Notice of a Land Release Affecting Federal Grant Assurance Obligations at Tucson International Airport, Tucson, Pima County, Arizona

AGENCY: Federal Aviation Administration, DOT.

ACTION: Notice of a Land Release.

SUMMARY: The Federal Aviation Administration (FAA) proposes to rule and invites public comment on the application for a land release of approximately 60 acres of airport property at Tucson International Airport, Tucson, Pima County, Arizona from the aeronautical use provisions of the Grant Agreement Assurances since the land is not needed for airport purposes. The property will be used by Pima County, Arizona to relocate an existing roadway that is too close to United States Air Force Plant Number 4, a military ordnance manufacturing facility. The proposed land release will allow the relocated public roadway to comply with the military safety separation standards from the ordnance facility. The airport will be compensated for the fair market value of the land. The use of the land for a roadway represents a compatible land use that will not interfere with the airport or its operation, thereby protecting the interests of civil aviation.

DATES: Comments must be received on or before January 28, 2015.

FOR FURTHER INFORMATION CONTACT: Comments on the request may be mailed or delivered to the FAA at the following address: Mr. Mike N. Williams, Manager, Airports District Office, Federal Register Comment, Federal Aviation Administration, Phoenix Airports District Office, 3800 N. Central Avenue, Suite 1025, Phoenix, Arizona 85012. In addition, one copy of the comment submitted to the FAA must be mailed or delivered to Mr. Eric Roudebush, Director of Environmental Services, Tucson Airport Authority, 7005 South Plumer Avenue, Tucson, Arizona 85756.

SUPPLEMENTARY INFORMATION: In accordance with the Wendell H. Ford Aviation Investment and Reform Act for the 21st Century (AIR 21), Public Law 10-181 (Apr. 5, 2000; 114 Stat. 61), this notice must be published in the Federal Register 30 days before the DOT Secretary may waive any condition imposed on a federally obligated airport by surplus property conveyance deeds or grant agreements.

The following is a brief overview of the request:

The Tucson Airport Authority (TAA) requested a release from the provisions of the Grant Agreement Assurances to permit the disposal of approximately 60 acres of land at Tucson International Airport, Tucson, Pima County, Arizona to permit the construction of a relocated replacement roadway by Pima County (County) to comply with safety arcs defined by the United States Air Force (USAF) for USAF Plant Number 44. The County proposes to relocate a portion of East Hughes Access Road between the South Nogales Highway and South Alvernon Way about 2,500 feet to the south of its present location so the new roadway and its users will be outside the designated safety zones used by the United States Air Force Plant Number 44 to keep the public a safe distance from an ordnance plant. The Tucson Airport Authority will sell the land, about 3 miles in length, that is obligated by Airport Improvement Program grants. In return, TAA will be compensated for the fair market value of the right of way property. In addition, when the old roadway is abandoned, TAA will have its rights restored to the portions that it originally owned. The use of the land for a roadway is a compatible land use that will not interfere with or impede the operations and development of the airport. Based on the benefits of fair compensation and enhanced public safety, the interests of civil aviation will be properly served.

Issued in Hawthorne, California, on December 18, 2014.
Brian Q. Armstrong,
Manager, Safety and Standards Branch, Airports Division, Western-Pacific Region.

[FR Doc. 2014-30361 Filed 12-24-14; 8:45 am]

BILLING CODE 4910-13-P